FEDERAL COMMUNICATIONS COMMISSION

[DA 02-2751]

Verification OF ITFS, MDS, and MMDS License Status and Pending Applications

AGENCY: Federal Communications Commission.

ACTION: Notice.

SUMMARY: In this document the Federal Communications Commission, (Commission), Wireless Telecommunications Bureau, seeks to verify ITFS, MDS, and MMDS licensing information contained in the Broadband Licensing System in preparation for the transition to the Universal Licensing System (ULS). The Commission is requesting that all ITFS, MDS and MMDS licensees and applicants review and verify licensing information set forth in the Tables released for public inspection. Also, the Commission is requesting that ITFS, MDS, and MMDS licensees and applicants submit written requests for continued processing for all pending applications filed prior to March 25, 2002. Finally, at the Commission will close the review and verification period on December 17, 2002.

DATES: Comments are due on or before December 16, 2002 and reply comments are due on or before December 30. 2002.

ADDRESSES: Federal Communications Commission 445 12th Street, SW., TW-A325, Washington, DC 20554. See Supplementary Information for filing instructions.

FOR FURTHER INFORMATION CONTACT: Licensees and applicants should visit http://wireless.fcc.gov/services/itfs&mds/licensing/inventory.html in order to review the tables. For all questions regarding technical aspects of public access to BLS data, contact the FCC Technical Support Hotline: Call (202) 414-1250 (TTY (202) 414-1255) or e-mail to ulscomm@fcc.gov. The hotline is available Monday through Friday 8 a.m. to 6 p.m. Eastern Time. All calls to the hotline are recorded.

For all questions regarding legal matters relating to this Public Notice, contact John J. Schauble, Chief, Policy and Rules Branch, Kim Varner, Esq., Policy and Rules Branch, Public Safety and Private Wireless Division, or Stephen Svab, Esq., Policy and Rules Branch, Public Safety and Private Wireless Division, at (202) 418-0680.

For all questions regarding data corrections, and how to file those corrections, contact the Licensing Support Hotline at 1-888-225-5322 and select option 2.

SUPPLEMENTARY INFORMATION: This is a summary of the Commission's Public Notice, DA 02-2751, released on October 18, 2002. The full text of this document is available for inspection and copying during normal business hours in the FCC Reference Center, 445 12th Street, SW., Washington, DC 20554. The complete text may be purchased from the Commission's copy contractor, Qualex International, 445 12th Street, SW., Room CY-B402, Washington, DC 20554. The full text may also be downloaded at: http://www.fcc.gov. Alternative formats are available to persons with disabilities by contacting Brian Millin at (202) 418-7426 or TTY (202) 418-7365 or at bmillin@fcc.gov.

On March 25, 2002, the Wireless Telecommunications Bureau (WTB) became responsible for the administration of the Instructional Television Fixed Service (ITFS), the Multipoint Distribution Service (MDS), and the Multichannel Multipoint Distribution Service (MMDS) (collectively, the Services). Prior to March 25, 2002, the Services were administered by the former Mass Media Bureau using the Broadband Licensing System (BLS) as the licensing database for the Services. As part of the transition process, WTB will be migrating these services to the Universal Licensing System (ULS) that governs all WTB services. In so doing, WTB seeks to ensure that all information contained within the BLS is accurate, current and comprehensive. In order to facilitate this process, WTB is requesting that all ITFS, MDS and MMDS licensees and applicants review and verify important licensing information as explained in this public notice. This review will assist WTB in ensuring the integrity of the data in the database and permit a smooth transition of the data to WTB's licensing database. In addition, in order to efficiently process all pending applications, petitions, and other requests, WTB is requesting that applicants and petitioners re-affirm, in writing, that continued processing of certain applications and petitions, as detailed below is desired.

It is very important that all ITFS, MDS, and MMDS licensees and applicants carefully review this public notice and the tables of licensing information described below. Failure to follow the instructions in this public notice may result in the cancellation of licenses and/or dismissal of pending applications.

ITFS/MDS/MMDS Licenses

WTB is making available for public inspection four tables of licensing information at: http://wireless.fcc.gov/services/itfs&mds/licensing/inventory.html. A hard copy of each table is also available for public inspection at the Commission's Reference Information Center, 445 12th Street, SW., Room CY-A257, Washington, DC 20554. Table A lists all ITFS licenses including main station and two-way stations shown in BLS. Table B lists all MDS and MMDS licenses, including Basic Trading Area authorizations, main stations and two-way stations contained in BLS. Table C lists all granted modifications and construction permits for ITFS for which certifications of construction have not yet been filed. Table D lists all granted MDS/MMDS modifications and conditional licenses for which certifications of construction have not yet been filed. Tables A, B, C, and D contain the following information for each listed license: license status, latest license status date, renewal expiration date, channel(s), location of the facility, construction expiration date of each unconstructed station and additional administrative information concerning the licenses. Technical information is not included in these tables.

In addition, for licensed stations only, additional technical information concerning those licenses is available at http://wireless.fcc.gov/services/itfs&mds/licensing/inventory.html. Licensees are requested to review this data for their licenses and ascertain that the information is correct (including verification that the specification of North American Datum 1927 (NAD27) or North American Datum 1983 (NAD83) for all coordinates on the license).

Within sixty days of the release date of this public notice, licensees are requested to review the referenced tables and to review the technical information pertaining to their licenses and submit any necessary corrections. Specifically, licensees are instructed to verify, under penalty of perjury, that their respective station licenses, conditional licenses, and construction permits are listed on the appropriate table and that all information (including the technical information available at the above-referenced internet address) is correct. All data corrections submitted should include a cover sheet with the following information: FCC Registration Number, which table the change is being requested for, call sign of the licensed station, Facility ID, and a current contact person (including mailing address, telephone number and e-mail address if available). If the licensee disputes any of the technical information, the licensee should print the technical information from the internet site and make the corrections on that print out. All corrections should be hand-written on the printed copy and submitted in duplicate, along with documents supporting the requested correction.

If the information pertaining to the licenses is accurate, no further action is required. If the license is listed as licensed but operation of the station has been permanently discontinued, the licensee is required to turn the license in for cancellation. If a valid license is not listed on the appropriate table or the licensee believes that it is listed incorrectly as forfeited or cancelled, the licensee must submit, within sixty days of the release of this public notice, a copy of the license. In addition, with the same filing, the licensee must also submit a declaration, signed by an authorized representative of the licensee that the license is valid along with an explanation as to why the license has not been forfeited or cancelled.

If a conditional license or construction permit is listed as an unconstructed station, but a certification of construction has been filed, the licensee is requested to submit an FCC date-stamped copy of that filing or other contemporaneous evidence demonstrating that the certification of construction was timely filed. In addition, with the same filing, the licensee must also submit a declaration, signed by an authorized representative of the licensee that the license is valid along with an explanation as to why the license has not been forfeited or cancelled.

If the information requested previously is being sent via United States Postal Service, licensees must use the following address: Federal Communications Commission, MDS/ITFS Database Corrections, 1270 Fairfield Road, Gettysburg, PA 17325.

Correspondence sent by overnight mail couriers (e.g., Federal Express, United Parcel Service, Airborne), hand-delivery or messenger must be addressed to: Federal Communications Commission, MDS/ITFS Database Corrections, 1120 Fairfield Road, Gettysburg, PA 17325.

Pending ITFS/MDS/MMDS Applications

WTB is also making available for public inspection two tables of pending ITFS/MDS/MMDS applications on the Commission's internet Web site at http://wireless.fcc.gov/services/itfs&mds/licensing/inventory.html. These tables include all electronically filed pending applications as of October 16, 2002, and all manually filed applications, filed prior to August 1, 2002. A hard copy of each table is also available for public inspection at the Commission's Reference Information Center, 445 12th Street, SW., Room CY-A257, Washington, DC 20554. Table E lists all pending ITFS applications. Table F lists all pending MDS/MMDS applications. Tables E and F contain the following information for each pending application: file number, application purpose, facility ID, location, channel and additional administrative information concerning the pending application. Technical information is not included in the tables. Technical information for pending applications for new stations or a modification of license can be queried on the Internet at http://wireless.fcc.gov/services/itfs&mds/licensing/inventory.html. These applications may be queried by using the facility ID.

Within sixty days of the release of this public notice, ITFS/MDS/MMDS licensees and applicants are requested to review and, where appropriate, verify the attached pending application tables and technical information for the following: (1) That the pending application(s) is/are listed on the appropriate table; (2) that the information listed on the table for the pending application is accurate and complete; (3) that the associated technical data for a pending application requesting a new station or a modified station is correct (including verification that the specification of NAD27 or NAD83 for all coordinates on the application is correct); and (4) for all applications filed prior to March 25, 2002, that Commission action on the pending application(s) is still requested. All data corrections submitted should include a cover sheet with the following information: FCC Registration Number, which table the change is being requested for, call sign of the licensed station, Facility ID, and a current contact person (including mailing address, telephone number and e-mail address if available).

If the information for the application is accurate and the application was filed after March 25, 2002, no further action is required. If, on the other hand, a pending application is not listed in the appropriate table and processing is requested, the applicant, by its authorized representative, is requested to submit within sixty days of the release of this public notice two FCC date-stamped copies of the omitted application.

In addition, for pending applications filed prior to March 25, 2002, the applicant must: (1) Affirm, in writing, within sixty days of the release of this public notice that continued processing of the application is requested by contacting the Commission at the addresses listed below in this subsection, and (2) submit a copy of the application with the written affirmation request.

If an application is listed as pending, but has in fact been granted, dismissed or withdrawn, the licensee or applicant is requested within sixty days of the release of this public notice to submit updated information concerning the status of the application. If the application has been granted, the licensee or applicant must submit a copy of the associated license or other authorization, or other documentation that demonstrates that the application has been granted.

If an applicant/licensee disputes any of the technical information of a pending application for a new station or the modification of a station, the applicant/licensee should print the technical information from the internet site. All corrections should be hand-written on the printed copy and submitted in duplicate, along with documents supporting the requested correction.

Applicants sending information via the United States Postal Service, should use the following address: Federal Communications Commission, MDS/ITFS Database Corrections, 1270 Fairfield Road, Gettysburg, PA 17325.

Applicants sending information via overnight mail couriers, hand-delivery or messenger should use the following address: Federal Communications Commission, MDS/ITFS Database Corrections, 1120 Fairfield Road, Gettysburg, PA 17325.

Termination of Review Period

At the end of the sixty-day review period, WTB will evaluate and update, where appropriate, all information received in response to this public notice. For any applications for which written affirmations requesting further processing have not been received, those applications will be dismissed without prejudice. At the conclusion of this review period, WTB will not entertain any future claims that licenses, conditional licenses, construction permits, applications, or pleadings may have been omitted from the BLS or accept any additional information from entities seeking to reinstate licenses, conditional licenses, or construction permits or prosecute dismissed applications and pleadings or applications that are dismissed pursuant to this Public Notice.

Contact Information

Licensees and applicants should visit http://wireless.fcc.gov/services/itfs&mds/licensing/inventory.html in order to review the tables. For all questions regarding technical aspects of public access to BLS data, contact the FCC Technical Support Hotline: Call (202) 414-1250 (TTY 202-414-1255) or e-mail to ulscomm@fcc.gov. The hotline is available Monday through Friday 8 a.m. to 6 p.m. Eastern Time. All calls to the hotline are recorded.

For all questions regarding legal matters relating to this Public Notice, contact John J. Schauble, Chief, Policy and Rules Branch, Kim Varner, Esq., Policy and Rules Branch, Public Safety and Private Wireless Division, or Stephen Svab, Esq., Policy and Rules Branch, Public Safety and Private Wireless Division, at (202) 418-0680.

For all questions regarding data corrections, and how to file those corrections, contact the Licensing Support Hotline at 1-888-225-5322 and select option 2.

FCC Notice Required by the Paperwork Reduction Act

The public reporting for this collection of information is estimated to average .50 hours per response, including the time for reviewing instructions, searching existing data sources, gathering and maintaining the required data, and completing and reviewing the collection of information. If you have any comments on this burden estimate, or how we can improve the collection and reduce the burden it causes you, please write to the Federal Communications Commission, AMD-PERM, Paperwork Reduction Project (3060-0893), Washington, DC 20554. We will also accept your comments regarding the Paperwork Reduction Act aspects of this collection via the Internet if you send them to jboley@fcc.gov. Please do not Send your Response to this Address.

Remember—You are not required to respond to a collection of information sponsored by the Federal government, and the government may not conduct or sponsor this collection, unless it displays a currently valid OMB control number or if we fail to provide you with this notice. This collection has been assigned an OMB control number of 3060-0893.

The Foregoing Notice is Required by the Paperwork Reduction Act of 1995, Pub. L. 104-13, October 1, 1995, 44 U.S.C. 3507.

Federal Communications Commission.
Marlene H. Dortch,
Secretary.

[FR Doc. 02-28890 Filed 11-13-02; 8:45 am]

BILLING CODE 6712-01-P